DEPARTMENT OF THE INTERIOR

National Park Service

Elwha Ecosystem Restoration Implementation; Olympic National Park; Clallam and Jefferson Counties, WA; Notice of Intent To Prepare a Supplemental Environmental Impact Statement

SUMMARY: Pursuant to Section 102(2)(C) of the National Environmental Policy Act (42 U.S.C. 4321 et seq.), the U.S. Department of the Interior, National Park Service, and its cooperating agencies are undertaking a conservation planning and environmental impact analysis process intended to supplement the 1996 Elwha River Ecosystem Restoration Implementation final environmental impact statement (1996 EIS). Two dams, built in the early 1900s, block the river and limit anadromous fish to the lowest 4.9 river miles. The 1996 EIS is the second of two environmental impact statements that examined how best to restore the Elwha River ecosystem and native anadromous fishery in Olympic National Park. Dam removal was determined to be the preferred option for restoration, and the 1996 EIS also identified a desired suite of actions to remove the dams. As a step towards accomplishing these objectives, Congress directed purchase of the dams (which occurred in February 2000 for $29.5 million, as stipulated by Pub. L. 102-495). However, release of sediment from behind the dams would result in sometimes severe impacts to water quality or to the reliability of supply to downstream users during the dam removal impact period of about 3-5 years, which the 1996 EIS proposed mitigating through a series of specific measures (see below). Subsequently, new research and changes unrelated to the implementation project have emerged. Therefore, the primary purpose of this Supplemental EIS (SEIS) will be to identify and analyze potential impacts of a new set of water quality and supply related mitigation measures.

Background

Elwha Dam was built in 1911, and Glines Canyon Dam in 1925, limiting anadromous fish to the lowest 4.9 miles of river (blocking access to more than 70 miles of Elwha River mainstream and tributary habitat). The two dams and their associated reservoirs have also inundated and degraded important riverine and terrestrial habitat and severely affected fisheries habitat through increased temperatures, reduced nutrients, reduced spawning gravels downstream, and other changes. Consequently, salmon and steelhead populations in the river have been considerably reduced or eliminated, and the river ecosystem within Olympic National Park significantly and adversely altered.

In 1992, Congress enacted the Elwha River Ecosystem and Fisheries Restoration Act (PL 102-495) directing the Secretary of the Interior to fully restore the Elwha river ecosystem and native anadromous fisheries, while at the same time protecting users of the river's water from adverse impacts associated with dam removal. The records of decision associated with this process indicated removal of both dams was needed to fully restore the ecosystem. However, impacts to water quality and supply will result from release of sediments, which have accumulated behind the dams. The 1996 EIS proposed and analyzed mitigation measures to protect water quality and ensure supply for each of the major downstream users. These users included the city of Port Angeles' municipal and industrial consumers, the Lower Elwha Klallam Tribe's fish hatchery, the state chinook salmon rearing channel, and the Dry Creek Water Association. Many private wells along the river could also be affected, but mitigation proposed for these users would remain substantially the same.

Currently, surface water from a rock fill diversion and intake pipe at river mile 3.3 supplies the city's industrial clients and the state rearing channel. Mitigation to protect the city's industrial customers described in the 1996 EIS included the installation of an infiltration gallery to collect water filtered from the riverbed and open-channel treatment with flocculants, chemicals and polymers during dam removal. The city's municipal customers are supplied with a subsurface Ranney collector on the east-side of the river at river mile 2.8. To maintain water yield, the 1996 EIS proposed a second Ranney collector be built on the river's west-side, opposite the current collector. A temporary “package” treatment plant to filter water from the Ranney wells would have been operational during dam removal. The rearing channel would have been closed during dam removal and chinook production transferred to another state facility.

The tribal hatchery at river mile 1 will be central in protecting and producing Elwha anadromous fish for restoration following dam removal. Water for the hatchery is currently provided through wells and a shallow infiltration gallery. Measures described to protect hatchery water during dam removal included the expansion of the gallery to ensure supply and drilling of two new wells to provide clean groundwater for dilution.

Dry Creek Water Association (DCWA) currently meets the needs of its members through groundwater wells. These wells would be subject to an increased frequency of flooding following dam removal, as well as increased sediment and mobilization of iron and manganese. The 1996 EIS analyzed two options for DCWA—connection to the city's water distribution system, or providing additional protection from flooding for the existing DCWA system and treating on site with filtration and chlorination.

Since December 1996 (when the most recent record of decision was signed), the U.S. Department of the Interior (including Bureau of Reclamation) and its cooperating agencies (including the U.S. Army Corps of Engineers and the Lower Elwha Klallam Tribe) have continued studying and refining elements of the selected alternative. As a result, they have found better solutions for protecting water quality and water supply during and following dam removal. In addition, changes in user needs have come about as a result of factors unrelated to the project. For example, chinook salmon and bull trout have both been listed as threatened since 1997, resulting in the requirement to keep the state rearing facility open during dam removal. Also, the city of Port Angeles must now meet new standards for the treatment of its municipal supplies. In addition, an industrial customer (Rayonier) which required very high quality water for its operation has since closed.

As a result of these and other changes, the agencies are pursuing an option of building permanent water treatment facilities with varying levels of treatment depending on the ultimate use of the water (for additional details, see Elwha River Water Quality Mitigation Project Planning Report at www.nps.gov/olym/elwha/home.htm). The locations and types of diversions may also change because water collected from the city's Ranney well is no longer considered to be purely groundwater, but is highly connected to the river and so must be treated as a surface supply. In addition, problems associated with subsurface intakes during the 3-5 year dam removal impact period may now outweigh the benefits. These problems include possible clogging and reduced yields, increased costs of providing flood protection, and increased environmental impacts associated with installing and maintaining subsurface structures in or very near the river. Sources of “true” groundwater, which are not so closely connected to the river have been investigated, but do not exist in the quantities required. This leaves surface water as a more attractive option. An alternative of replacing the existing intake structure will therefore be analyzed in the SEIS. Feasibility studies indicate surface water could be treated and used for the city's industrial customer, in combination with well water for the state's rearing facility and the Lower Elwha Klallam tribal hatchery, and as a backup for the city's municipal customers. It may also be evaluated as an option to supply DCWA customers.

The SEIS will also analyze changes unrelated to water quality mitigation where applicable. One of these changes is a re-evaluation of options to mitigate impacts to septic systems on the Lower Elwha Klallam Reservation. Many of the septic systems in the lower lying parts of the Reservation may become ineffective when the river level and associated groundwater table rises as a result of river channel aggradation following dam removal. Although the 1996 EIS examined a community mounding system, the number of residents living in the valley part of the Reservation has now increased. The SEIS will evaluate other options which are technically, economically, or environmentally preferable in light of these changes. At this time, the Tribe is considering a variety of options, including individual onsite systems with pressurized pumps, small group treatment options, offsite treatment by others, or combining with other valley residents (who would not be affected by dam removal) to create a community treatment system.

Since the release of the 1996 EIS, two species of fish cited for restoration have been listed as threatened, and the NPS has worked with USFWS and NMFS staff to further address these species during and following dam removal. Keeping the rearing channel open for chinook salmon production and modifying road culverts within the park to provide access for bull trout to additional tributary habitat are examples of some of the additional actions that the SEIS will examine.

Environmental Issues

Updated and additional information relevant to decision-making will be presented in the SEIS. In addition to the points summarized above, further detail has been added to the revegetation plan for the areas currently inundated by the reservoirs; thus, potential impacts of actions associated with such revegetation will be addressed. The 1996 EIS envisioned using one or more of nine solid waste disposal areas for rubble and other materials. Some of these may no longer be available, new sites might be added, or recycling of concrete may be economically preferable now.

Water quality or water supply mitigation issues that will be analyzed in the SEIS include impacts of rebuilding the existing rock diversion structure on riparian vegetation, wildlife, water quality and fish; land use related impacts of building permanent water treatment facilities, such as removal of vegetation and soil, use of heavy equipment to build the facilities and its impact on wildlife or visitors, and hazards of using chlorine and other chemicals required for treatment.

Other environmental issues not related to water quality or supply include providing access to Morse Creek and other tributaries for fisheries protection during dam removal, access to seed stock and protection of young plants in revegetating reservoir lands, changes in driving routes for trucks disposing of rubble, or noise of an onsite rubble crushing operation and its potential effects on wildlife and visitors.

Scoping/Comments

Public scoping for the SEIS will conclude 30-days from the date of publication of this notice. All interested individuals, groups, and agencies are encouraged to provide information relevant to the design, construction, location, or potential environmental effects of desired measures noted above. Please limit comments to the proposal as described in this notice, since prior decisions to restore the ecosystem and anadromous fisheries through dam removal, and selection of the River Erosion alternative as the dam removal scenario, are beyond the scope of environmental impact analysis targeted in the SEIS.

Additional information and periodic updates will be available at the Web site noted above or by contacting the Elwha Restoration Project Office at (360) 565-1320. All comments must be postmarked or transmitted no later than 30 days from the publication date of this notice; as soon as this date is determined it will be announced on the Web site noted. Written comments may be delivered by fax to: 360/565-1325; via e-mail to: Brian_Winter@nps.gov; or via postal mail or hand delivery during normal business hours to: Elwha Restoration Project Office, SEIS Comments, 826 East Front Street, Suite A, Port Angeles, WA 98362.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

The SEIS will be prepared in accord with all applicable laws and regulations, including the National Environmental Policy Act (NEPA), the Council on Environmental Quality regulations for implementing NEPA (40 CFR parts 1500-1508), and the NPS Management Policies (2001) and NEPA guidelines (Director's Order 12). A 60-day public review of the Draft will be initiated upon its release, which at this time is expected in early 2003; then subsequently a Final will be prepared. Issuance of both documents will be announced via local and regional press, direct mailings, on the Web site noted above, and through the Federal Register. As a delegated EIS, the official responsible for the final decision is the Regional Director, Pacific West Region; subsequently the official responsible for implementation would be the Superintendent, Olympic National Park.

Dated: July 9, 2002.
John J. Reynolds,
Regional Director, Pacific West Region.

[FR Doc. 02-23124 Filed 9-11-02; 8:45 am]

BILLING CODE 4310-70-P